NUCLEAR REGULATORY COMMISSION

Sunshine Federal Register Notice

Agency Holding the Meetings: Nuclear Regulatory Commission.

Dates: Weeks of October 20, 27, November 3, 10, 17, 24, 2008.

Place: Commissioners' Conference Room, 11555 Rockville Pike, Rockville, Maryland.

Status: Public and Closed.

Week of October 20, 2008

Wednesday, October 22, 2008

9:30 a.m. Briefing on New Reactor Issues—Construction Readiness, Part 1 (Public Meeting) (Contact: Roger Rihm, 301 415-7807).

1:30 p.m. Briefing on New Reactor Issues—Construction Readiness, Part 2 (Public Meeting) (Contact: Roger Rihm, 301 415-7807).

Both parts of this meeting will be Webcast live at the Web address— http://www.nrc.gov.

Thursday, October 23, 2008

9:25 a.m. Affirmation Session (Public Meeting) (Tentative). a. Pacific Gas and Electric Co. (Diablo Canyon ISFSI), Docket No. 72-26-ISFSI, Decision on the Merits of San Luis Obispo Mothers for Peace's Contention 2 (Tentative).

Week of October 27, 2008—Tentative

There are no meetings scheduled for the week of October 27, 2008.

Week of November 3, 2008—Tentative

Thursday, November 6, 2008

1:30 p.m. Briefing on NRC International Activities (Public Meeting) (Contact: Karen Henderson, 301 415-0202).

This meeting will be Webcast live at the Web address— http://www.nrc.gov.

Friday, November 7, 2008

2 p.m. Meeting with Advisory Committee on Reactor Safeguards (Public Meeting); (Contact: Tanny Santos, 301 415-7270).

This meeting will be webcast live at the Web address— http://www.nrc.gov.

Week of November 10, 2008—Tentative

There are no meetings scheduled for the week of November 10, 2008.

Week of November 17, 2008—Tentative

There are no meetings scheduled for the week of November 17, 2008.

Week of November 24, 2008—Tentative

There are no meetings scheduled for the week of November 24, 2008.

* * * * *

* The schedule for Commission meetings is subject to change on short notice. To verify the status of meetings, call (recording)—(301) 415-1292. Contact person for more information: Michelle Schroll, (301) 415-1662.

* * * * *

The NRC Commission Meeting Schedule can be found on the Internet at: http://www.nrc.gov/about-nrc/policy-making/schedule.html.

* * * * *

The NRC provides reasonable accommodation to individuals with disabilities where appropriate. If you need a reasonable accommodation to participate in these public meetings, or need this meeting notice or the transcript or other information from the public meetings in another format (e.g. braille, large print), please notify the NRC's Disability Program Coordinator, Rohn Brown, at 301-492-2279, TDD: 301-415-2100, or by e-mail at rohn.brown@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to darlene.wright@nrc.gov.

Dated: October 16, 2008.
R. Michelle Schroll,
Office of the Secretary.

[FR Doc. E8-25142 Filed 10-17-08; 4:15 pm]

BILLING CODE 7590-01-P